DEPARTMENT OF AGRICULTURE

Grain Inspection, Packers and Stockyards Administration

Designation for the West Sacramento, CA; and Richmond, VA Areas

AGENCY: Grain Inspection, Packers and Stockyards Administration, USDA.

ACTION: Notice.

SUMMARY: GIPSA is announcing the designation of California Agri Inspection Co., Ltd. (California Agri); and Virginia Department of Agriculture and Consumer Services (Virginia) to provide official services under the United States Grain Standards Act (USGSA), as amended.

DATES: Effective Date: January 1, 2016.

ADDRESSES: Sharon Lathrop, Compliance Officer, USDA, GIPSA, FGIS, QACD, 10383 North Ambassador Drive, Kansas City, MO 64153.

FOR FURTHER INFORMATION CONTACT: Sharon Lathrop, 816-891-0415, Sharon.L.Lathrop@usda.gov or FGIS.QACD@usda.gov.

Read Applications: All applications and comments are available for public inspection at the office above during regular business hours (7 CFR 1.27(c)).

SUPPLEMENTARY INFORMATION: In the July 1, 2015, Federal Register (80 FR 37580), GIPSA requested applications for designation to provide official services in the geographic areas presently serviced by California Agri and Virginia. Applications were due by July 31, 2015.

The current official agencies, California Agri and Virginia, were the only applicants for designation to provide official services in these areas. As a result, GIPSA did not ask for additional comments.

GIPSA evaluated the designation criteria in section 79(f) of the USGSA (7 U.S.C. 79(f)) and determined that California Agri and Virginia are qualified to provide official services in the geographic areas specified in the Federal Register on July 1, 2015. This designation to provide official services in the specified areas of California and Virginia is effective January 1, 2016, to December 31, 2018.

Interested persons may obtain official services by contacting these agencies at the following telephone numbers:

Official agency | Headquarters location and telephone | Designation start | Designation end
California Agri | West Sacramento, CA 916-374-9700 | 1/1/2016 | 12/31/2018
Virginia | Richmond, VA 804-786-3501 | 1/1/2016 | 12/31/2018

Section 79(f) of the USGSA authorizes the Secretary to designate a qualified applicant to provide official services in a specified area after determining that the applicant is better able than any other applicant to provide such official services (7 U.S.C. 79 (f)).

Larry Mitchell,
Administrator, Grain Inspection, Packers and Stockyards Administration.

[FR Doc. 2016-16982 Filed 7-18-16; 8:45 am]

BILLING CODE 3410-KD-P